DEPARTMENT OF HOMELAND SECURITY

Coast Guard

[Docket No. USCG-2017-1009]

Commercial Fishing Safety Advisory Committee

AGENCY: U.S. Coast Guard, Department of Homeland Security.

ACTION: Request for applications.

SUMMARY: The U.S. Coast Guard seeks applications for membership on the Commercial Fishing Safety Advisory Committee. The Commercial Fishing Safety Advisory Committee provides advice and makes recommendations to the Coast Guard and the Department of Homeland Security on various matters relating to the safe operation of commercial fishing industry vessels. Both positions were previously advertised under Docket No. USCG-2017-0829 but no applications for either of the two positions were received.

DATES: Completed applications should be submitted to the U.S. Coast Guard on or before February 26, 2018.

ADDRESSES: Applicants should send a cover letter expressing interest in an appointment to the Commercial Fishing Safety Advisory Committee that also identifies which membership category the applicant is applying under, along with a resume detailing the applicant's experience via one of the following methods:

• By Email: Jonathan.G.Wendland@uscg.mil, Subject line: The Commercial Fishing Safety Advisory Committee.

• By Mail: Commandant (CG-CVC-3)/CFSAC, Attn: Mr. Jonathan Wendland, U.S. Coast Guard, 2703 Martin Luther King Ave. SE, Stop 7501, Washington, DC 20593-7501.

FOR FURTHER INFORMATION CONTACT: Mr. Jonathan Wendland, Alternate Designated Federal Officer of the Commercial Fishing Safety Advisory Committee, 202-372-1245 or Jonathan.G.Wendland@uscg.mil.

SUPPLEMENTARY INFORMATION: The Commercial Fishing Safety Advisory Committee is a federal advisory committee which operates under the provisions of the Federal Advisory Committee Act, (Title 5, U.S.C. Appendix). The U.S. Coast Guard chartered the Commercial Fishing Safety Advisory Committee to provide advice on issues related to the safety of commercial fishing industry vessels regulated under Chapter 45 of title 46, United States Code, which includes uninspected fish catching vessels, fish processing vessels, and fish tender vessels. (See Title 46 U.S.C. 4508.)

The Commercial Fishing Safety Advisory Committee meets at least once a year. It may also meet for other extraordinary purposes. Its subcommittees or working groups may communicate throughout the year to prepare for meetings or develop proposals for the committee as a whole or to address specific tasks.

Each member serves for a term of three years. An individual may be appointed to a term as a member more than once, but not more than two terms consecutively. All members serve at their own expense and receive no salary or other compensation from the Federal Government, although travel reimbursement and per diem may be provided for called meetings.

The U.S. Coast Guard will consider applications for two (02) positions that will be vacant on January 2018 in the following categories:

(a) An individual who represents the general public, a marine surveyor who provides services to vessels to which Chapter 45 of Title 46 U.S.C. applies (one position);

(b) An individual who represents manufacturers of equipment for vessels to which Chapter 45 of Title 46, U.S.C. applies (one position);

If you are selected as a member from the general public, you will be appointed and serve as a Special Government Employee as defined in Section 202(a) of Title 18, U.S.C. Applicants for appointment as a Special Government Employee are required to complete a Confidential Financial Disclosure Report (OGE Form 450). The U.S. Coast Guard may not release the reports or the information in them to the public except under an order issued by a Federal court or as otherwise provided under the Privacy Act (5 U.S.C. 552a). Only the Designated U.S. Coast Guard Ethics Official or his or her designee may release a Confidential Financial Disclosure Report. Applicants can obtain this form by going to the website of the Office of Government Ethics (www.oge.gov), or by contacting the individual listed in FOR FURTHER INFORMATION CONTACT. Applications for a member drawn from the general public which are not accompanied by a completed OGE Form 450 will not be considered.

Registered lobbyists are not eligible to serve on federal advisory committees in an individual capacity. See “Revised Guidance on Appointment of Lobbyist to Federal Advisory Committees, Boards, and Commissions” (79 CFR 47482, August 13, 2014). Registered lobbyists are lobbyists as defined in Title 2, U.S.C. 1602 who are required by Title 2 U.S.C. 1603 to register with the Secretary of the Senate and the Clerk of the House of Representatives. The position we list for a member from the general public would be someone appointed in their individual capacity and would be designated as a Special Government Employee as defined in Section 202(a), Title 18, U.S.C.

The Department of Homeland Security does not discriminate in selection of Committee members on the basis of race, color, religion, sex, national origin, political affiliation, sexual orientation, gender identity, marital status, disability and genetic information, age, membership in an employee organization, or any other non-merit factor. The Department of Homeland Security strives to achieve a widely diverse candidate pool for all of its recruitment actions.

If you are interested in applying to become a member of the Committee, send your cover letter and resume to Mr. Jonathan Wendland, Commercial Fishing Safety Advisory Committee Alternate Designated Federal Officer, via one of the transmittal methods in the ADDRESSES section by the deadline in the DATES section. All email submittals will receive an email receipt confirmation.

Dated: December 20, 2017.
Jennifer F. Williams,
Captain, U.S. Coast Guard, Director of Inspections and Compliance.

[FR Doc. 2017-27886 Filed 12-26-17; 8:45 am]

BILLING CODE 9110-04-P